ENVIRONMENTAL PROTECTION AGENCY

[FRL-8769-2]

Notice of Open Meeting of the Environmental Financial Advisory Board (EFAB)

AGENCY: Environmental Protection Agency (EPA).

ACTION: Notice.

SUMMARY: The EPA's EFAB will hold an open meeting of the full board in Washington, DC on March 16-17, 2009. EFAB is an EPA advisory committee chartered under the Federal Advisory Committee Act (FACA) to provide advice and recommendations to EPA on creative approaches to funding environmental programs, projects, and activities.

The purpose of this meeting is to hear from informed speakers on environmental finance issues, proposed legislation, Agency priorities, and to discuss progress with work products under EFAB's current Strategic Action Agenda.

Environmental financing topics expected to be discussed include: Financial Assurance Mechanisms (Commercial Insurance & Cost Estimation); Financial Assurance and CO2 Underground Injection Control/Carbon Capture and Sequestration; Water Loss Reduction (“Leaky Pipes”); Innovative Financing Tools, and State Revolving Fund Investment Options.

This meeting is open to the public, however, seating is limited. All members of the public who are planning to attend the meeting must register in advance, no later than Friday, March 6, 2009.

DATES: Full Board Meeting is scheduled for March 16, 2009 from 1:30 p.m.-5:30 p.m. and March 17, 2009 from 8:30 a.m.-5 p.m.

ADDRESSES: The Madison, 1177 15th Street, NW., Washington, DC 20005.

Registration and Information Contact:

To register for this meeting or get further information, please contact Sandra Keys, U.S. EPA, at (202) 564-4999 or keys.sandra@epa.gov. For information on access or services for individuals with disabilities, please contact Sandra Keys. To request accommodations for a disability, contact Sandra Keys, preferably at least 10 days prior to the meeting, to give EPA as much time as possible to process your request.

Dated: January 22, 2009.
Joshua Baylson,
Acting Deputy Chief Financial Officer, Office of the Chief Financial Officer.

[FR Doc. E9-1809 Filed 1-27-09; 8:45 am]

BILLING CODE 6560-50-P